DEPARTMENT OF COMMERCE

National Oceanic and Atmospheric Administration

[I.D. 032607E]

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council), its Research Set Aside (RSA) Committee, its Ecosystem Committee, its Protected Resources Committee, its Squid, Mackerel, and Butterfish Committee, its Executive Committee, and its Surfclam/Ocean Quahog Committee will hold public meetings.

DATES: The meetings will be held on Tuesday, April 17, 2007 through Thursday, April 19, 2007. See SUPPLEMENTARY INFORMATION for specific dates and times.

ADDRESSES: These meetings will be held at the Princess Royale Hotel, 9100 Coastal Highway, Ocean City, MD 21842; telephone: (410) 524-7777.

Council address: Mid-Atlantic Fishery Management Council, 300 S. New Street, Dover, DE 19904; telephone: (302) 674-2331.

FOR FURTHER INFORMATION CONTACT: Daniel T. Furlong, Executive Director, Mid-Atlantic Fishery Management Council; telephone: (302) 674-2331, ext. 19.

SUPPLEMENTARY INFORMATION:

Tuesday, April 17, 2007

8 a.m. until 1 p.m. - The Research Set Aside (RSA) Committee will meet privately with NMFS officials.

9 a.m. until 11 a.m. - The Ecosystems Committee will also meet concurrently with the RSA Committee.

11 a.m. until 1 p.m. - The Protected Resources Committee will meet concurrently with the RSA Committee.

2 p.m. until 5:30 p.m. - The Squid, Mackerel, and Butterfish Committee will meet.

7 p.m. until 8:30 p.m. - NMFS will hold a scoping session on National Standard 1 Guidelines regarding annual catch limits and accountability measures.

Wednesday, April 18, 2007

8 a.m. until 9 a.m. - The Executive Committee will meet.

9 a.m. until 10:30 a.m. - The Council will convene to receive a presentation from the National Fisheries Institute's Scientific Monitoring Committee.

10:30 a.m. until 11:30 a.m. - A Public Hearing for Phase 1 of the New England Council's Essential Fish Habitat Omnibus Amendment will be held.

11:30 a.m. - The 5th District Commander of the U.S. Coast Guard will discuss Coast Guard activities and Command changes.

1 p.m. until 3:30 p.m. - The Council will conduct its regular Council business.

3:30 p.m. until 4:30 p.m. - The Council will discuss and likely approve Framework 7 to the Summer Flounder, Scup, and Black Sea Bass Fishery Management Plan (FMP).

4:30 p.m. until 5 p.m. - An update on the Limited Access Privilege Programs will be presented by Council staff.

Thursday, April 19, 2007

8 a.m. until 10 a.m. - The Surfclam and Ocean Quahog Committee will meet with its Advisors.

10 a.m. - The Council will convene to receive an update regarding the Magnuson-Stevens Act (MSA) and National Environmental Policy Act (NEPA) integration.

10:30 a.m. until adjournment - The Council will receive committee reports and address any continuing or new business.

Agenda items for the Council's committees and the Council itself are: The Research Set Aside (RSA) Committee will meet privately with NMFS officials to review 2008 RSA project proposals. The Ecosystems Committee will review responses to the March 9 solicitation letter to member states regarding artificial reefs, and develop a Committee position on the need to create (or not) special management zones (SMZs) for artificial reefs. The Ecosystems Committee will also receive the NMFS' Northeast Fisheries Science Center presentation on the current status of its ecosystem efforts. The Protected Resources Committee will meet with its Advisors to review and discuss the NMFS' Advanced Notice of Proposed Rulemaking (ANPR) on sea turtle conservation, and to also review and discuss impacts of the Atlantic Trawl Gear Take Reduction Team's (ATGTRT) efforts to reduce the incidental take of pilot whales and dolphins. The Squid, Mackerel, and Butterfish Committee will review and update outcomes from its March 21 Committee meeting on Amendment 11. NMFS' will hold a scoping session regarding annual catch limits and accountability measures associated with National Standard 1 Guidelines. The Executive Committee will review outcomes of the meeting of NMFS' Northeast Region (NER) officials regarding impacts of the MSA Reauthorization Act of 2006, review status of the Council's fiscal year 2007 budget, and review the status of the Council's Advisory Panel surveys and related actions. The National Fisheries Institute's Scientific Monitoring Committee will provide a presentation on the results of its Supplemental Finfish Survey and Loligo Net-Testing Study. A Public Hearing will be held regarding Phase 1 of the New England Council's Essential Fish Habitat (EFH) Omnibus Amendment. The Council will conduct its regular business session, and review, select, and approve options/alternatives included in Framework 7 to its Summer Flounder, Scup and Black Sea Bass FMP regarding mechanisms to change biological reference points during the specification setting process following peer reviewed stock assessments. A staff-led discussion will then be held on Limited Access Programs. The Surfclam and Ocean Quahog Committee and its Advisors will review cost recovery options for surfclam and ocean quahog fisheries and solicit input from Advisors regarding 2008, 2009, and 2010 quota specifications. The Council will receive a presentation from its Executive Directors on Section 107 of the MSA Reauthorization Act of 2006. This will be followed by committee reports and any continuing or new business.

Although non-emergency issues not contained in this agenda may come before the Council for discussion, these issues may not be the subject of formal Council action during this meeting. Council action will be restricted to those issues specifically listed in this notice and any issues arising after publication of this notice that require emergency action under section 305(c) of the Magnuson-Stevens Act, provided the public has been notified of the Council's intent to take final actions to address such emergencies.

Special Accommodations

These meetings are physically accessible to people with disabilities. Requests for sign language interpretation or other auxiliary aids should be directed to M. Jan Bryan (302) 674-2331 ext. 18 at least 5 days prior to the meeting date.

Dated: March 26, 2007.
Tracey L. Thompson,
Acting Director, Office of Sustainable Fisheries, National Marine Fisheries Service.

[FR Doc. E7-5824 Filed 3-29-07; 8:45 am]

BILLING CODE 3510-22-S